DEPARTMENT OF LABOR

Employment and Training Administration

[TA-W-59,140]

MRC Industrial Group Including an On-Site Contract Employee, Warren, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on April 11, 2006, applicable to workers of MRC Industrial Group, Warren, Michigan. The notice was published in the Federal Register on April 24, 2006 (71 FR 21044).

At the request of the State agency, the Department reviewed the certification for workers of the subject firm.

At the request of the State agency, the Department reviewed the certification for workers of the subject firm. New information shows that a worker separation occurred involving an on-site contract employee of the Warren, Michigan facility of MRC Industrial Group.

Mr. Norman Gerald Hilliker, Jr. provided various consulting services for the production of precision fasteners, nuts, rivets and pins for motor vehicles product by the subject firm.

Based on these findings, the Department is amending this certification to include a contract employee working on-site at the Warren, Michigan location of the subject firm.

The intent of the Department's certification is to include all workers employed on-site at MRC Industrial Group, Warren, Michigan who were adversely affected by increased company imports.

The amended notice applicable to TA-W-59,140 is hereby issued as follows:

“All workers of MRC Industrial Group, including an on-site contract employee, Warren, Michigan, who became totally or partially separated from employment on or after March 30, 2005, through April 11, 2008, are eligible to apply for adjustment assistance under Section 223 of the Trade Act of 1974, and are also eligible to apply for alternative trade adjustment assistance under Section 246 of the Trade Act of 1974.”

Signed at Washington, DC, this 17th day of May 2007.
Elliott S. Kushner,
Certifying Officer, Division of Trade Adjustment Assistance.

[FR Doc. E7-14233 Filed 7-23-07; 8:45 am]

BILLING CODE 4510-FN-P